Title 3—

The President

Proclamation 8902 of November 7, 2012

Veterans Day, 2012

By the President of the United States of America

A Proclamation

Whether they fought in Salerno or Samarra, Heartbreak Ridge or Helmand, Khe Sanh or the Korengal, our veterans are part of an unbroken chain of men and women who have served our country with honor and distinction. On Veterans Day, we show them our deepest thanks. Their sacrifices have helped secure more than two centuries of American progress, and their legacy affirms that no matter what confronts us or what trials we face, there is no challenge we cannot overcome, and our best days are still ahead.

This year, we marked the 200th anniversary of the War of 1812. We began to commemorate the 50th anniversary of the Vietnam War. We welcomed our veterans back home from Iraq, and we continued to wind down operations in Afghanistan. These milestones remind us that, though much has changed since Americans first took up arms to advance freedom's cause, the spirit that moved our forebears is the same spirit that has defined each generation of our service members. Our men and women in uniform have taught us about strength, duty, devotion, resolve—cornerstones of a commitment to protect and defend that has kept our country safe for over 200 years. In war and in peace, their service has been selfless and their accomplishments have been extraordinary.

Even after our veterans take off the uniform, they never stop serving. Many apply the skills and experience they developed on the battlefield to a life of service here at home. They take on roles in their communities as doctors and police officers, engineers and entrepreneurs, mothers and fathers. As a grateful Nation, it is our task to make that transition possible—to ensure our returning heroes can share in the opportunities they have given so much to defend. The freedoms we cherish endure because of their service and sacrifice, and our country must strive to honor our veterans by fulfilling our responsibilities to them and upholding the sacred trust we share with all who have served.

On days like this, we are called to reflect on immeasurable burdens that have been borne by so few. We pay tribute to our wounded, our missing, our fallen, and their families—men and women who have known the true costs of conflict and deserve our deepest respect, now and forever. We also remember that our commitments to those who have served are commitments we must honor not only on Veterans Day, but every day. As we do so, let us reaffirm our promise that when our troops finish their tours of duty, they come home to an America that gives them the benefits they have earned, the care they deserve, and the fullest opportunity to keep their families strong and our country moving forward.

With respect for and in recognition of the contributions our service members have made to the cause of peace and freedom around the world, the Congress has provided (5 U.S.C. 6103(a)) that November 11 of each year shall be set aside as a legal public holiday to honor our Nation's veterans.

NOW, THEREFORE, I, BARACK OBAMA, President of the United States of America, do hereby proclaim November 11, 2012, as Veterans Day. I encourage all Americans to recognize the valor and sacrifice of our veterans through appropriate public ceremonies and private prayers. I call upon Federal, State, and local officials to display the flag of the United States and to participate in patriotic activities in their communities. I call on all Americans, including civic and fraternal organizations, places of worship, schools, and communities to support this day with commemorative expressions and programs.

IN WITNESS WHEREOF, I have hereunto set my hand this seventh day of November, in the year of our Lord two thousand twelve, and of the Independence of the United States of America the two hundred and thirty-seventh.

[FR Doc. 2012-27630

Filed 11-9-12; 8:45 am]

Billing code 3295-F3